DEPARTMENT OF EDUCATION

[CFDA Nos.: 84.141A and 84.149A]

Notice Inviting Applications for New Awards for Fiscal Year 2002 for the High School Equivalency Program and the College Assistance Migrant Program

AGENCY: Department of Education.

ACTION: Notice inviting applications for new awards for fiscal year (FY) 2002 for the High School Equivalency Program (HEP) and the College Assistance Migrant Program (CAMP).

Purpose of Programs: The purpose of HEP and CAMP is to provide grants to institutions of higher education (IHEs), or to private non-profit agencies working in cooperation with IHEs, to help migrant and seasonal farmworkers complete high school and succeed in postsecondary education.

Eligible Applicants: IHEs or private non-profit agencies working in cooperation with IHEs.

Applications Available: February 1, 2002.

Deadline for Transmittal of Applications: March 18, 2002.

Deadline for Intergovernmental Review: May 17, 2002.

Available Funds: HEP $3,000,000.

Estimated Range of Awards: HEP $150,000-$375,000.

Estimated Average Size of Awards: HEP $340,000.

Estimated Number of Awards: HEP 9.

Available Funds: CAMP $5,000,000.

Estimated Range of Awards: CAMP $150,000-$375,000.

Estimated Average Size of Awards: CAMP $340,000.

Estimated Number of Awards: CAMP 15.

Note: The Department is not bound by any estimates in this notice.

Project Period: Up to 60 months.

SUPPLEMENTARY INFORMATION: HEP assists migrant and seasonal farmworkers to obtain a general education diploma (GED) and to be placed in postsecondary education or training, career positions, or the military. By locating the programs at IHEs, migrant and seasonal farmworkers also have opportunities to attend cultural events, academic programs, and other educational and cultural activities usually not available to them. CAMP assists migrant and seasonal farmworkers to successfully complete the first academic year of study in a college or university, and provides follow-up services to help students continue in postsecondary education.

The selection criteria used to review applications are included in the application package. The Congress has appropriated a total of $23,000,000 for HEP and $15,000,000 for CAMP for FY 2002. Increases in the FY 2002 appropriations ($3,000,000 for HEP and $5,000,000 for CAMP) will be used to fund new applications.

Applicable Regulations: (a) The Education Department General Administrative Regulations (EDGAR) in 34 CFR parts 74, 75, 77, 79, 82, 85, 86, 97, 98, and 99; (b) 34 CFR part 206, and the definitions of a migrant and seasonal farmworker in 34 CFR 200.40 and 20 CFR part 652, respectively.

FOR FURTHER INFORMATION CONTACT: To obtain a copy of the application or to obtain information on the program, call or write Mary L. Suazo, U.S. Department of Education, Office of Elementary and Secondary Education, Office of Migrant Education, 400 Maryland Avenue, SW., Room 3E227, FOB 6, Washington, DC 20202-6135. Telephone Number: (202) 260-1396. Inquiries may be sent by e-mail to mary.suazo@ed.gov or by FAX at (202) 205-0089. A copy of the application can be obtained electronically at: http://www.ed.gov/GrantApps.

If you use a telecommunications device for the deaf (TDD) you may call the Federal Information Relay Service (FIRS) at 1-800-877-8339. Individuals with disabilities may obtain this document in an alternative format (e.g., Braille, large print, audiotape, or computer diskette) on request to the contact person listed in the preceding paragraph.

Electronic Access to This Document

You may view this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office toll free at 1-888-293-6498; or in the Washington, DC area at (202) 512-1530.

Note: The official version of this document is the document published in the Federal Register. Free Internet access to the official edition of the Federal Register and the Code of Federal Regulations is available on GPO Access at: http://www.access.gpo.gov/nara/index.html.

Program Authority: 20 U.S.C. 1070d-2.

Dated: January 28, 2002.
Susan B. Neuman,
Assistant Secretary for Elementary and Secondary Education.

[FR Doc. 02-2485 Filed 1-31-02; 8:45 am]

BILLING CODE 4000-01-U